DEPARTMENT OF THE INTERIOR

Bureau of Land Management

[CO150-1210-PC-241A]

Notice of Public Meeting, Southwest Resource Advisory Council Meeting

AGENCY: Bureau of Land Management, Department of the Interior.

ACTION: Notice of public meeting.

SUMMARY: In accordance with the Federal Land Policy and Management Act (FLPMA) and the Federal Advisory Committee Act of 1972 (FACA), the U.S. Department of the Interior (DOI), Bureau of Land Management (BLM) Southwest Colorado Resource Advisory Council (RAC) will meet as indicated below.

DATES: The Southwest Colorado RAC meeting will begin at 9 a.m. and adjourn at 4 p.m. on October 1, 2004.

ADDRESSES: The Southwest Colorado RAC meeting will be held at the Norwood Community Center, 1670 Naturita St., Norwood, Colorado.

FOR FURTHER INFORMATION CONTACT: Barbara Sharrow, Field Manager, BLM Uncompahgre Field Office, 2505 South Townsend Ave., Montrose, CO, telephone (970) 240-5300; or Melodie Lloyd, Public Affairs Specialist, BLM Western Slope Center, 2815 H Rd., Grand Junction, CO, telephone (970) 244-3097.

SUPPLEMENTARY INFORMATION: The 15-member Council advises the Secretary of the Interior, through the BLM, on a variety of planning and management issues associated with public lands managed by the BLM in southwestern Colorado. All meetings are open to the public.

The purpose of the meeting is to:

Introduce new RAC members;

Discuss old RAC business (San Juan Gold Land Exchange);

HD Mountain EIS subgroup report;

West Slope Center status report;

Review OHV designations and regulations;

Review Recreation Guidelines recommended by RACs in 2000;

Form Dominguez-Escalante Community Stewardship Plan subcommittee;

Set fiscal year 2005 meetings.

There will be an opportunity for the public to address the RAC at 9:45 a.m. and 2:45 p.m. Written comments may be submitted for the RAC's consideration. Individuals who plan to attend and need special assistance, such as sign language interpretation or other reasonable accommodations, should contact the BLM as provided above.

Dated: August 20, 2004.
Barbara Sharrow,
Lead Designated Federal Officer and Uncompahgre Field Manager.

[FR Doc. 04-19508 Filed 8-25-04; 8:45 am]

BILLING CODE 4310-AG-P